FEDERAL COMMUNICATIONS COMMISSION

[MB Docket No. 04-144; DA 05-2000]

Piscataway Board of Education and King's Temple Ministries, Inc.

AGENCY: Federal Communications Commission.

ACTION: Notice.

SUMMARY: This document modified the Hearing Designation Order (HDO) previously issued in this docket, regarding the application of Piscataway Board of Education (PBE) for renewal of license of WVPH(FM), Piscataway, New Jersey, and the mutually exclusive application of King's Temple Ministries, Inc. (KTM) for authority to construct a new noncommercial educational (NCE) FM station on Channel 212 in Plainfield, New Jersey. Specifically, the designated issue was expanded to include a determination as to whether a time sharing arrangement between the two applicants would best serve the public interest and, if so, to determine a schedule for such time sharing.

ADDRESSES: Please file documents with the Investigations and Hearings Division, Enforcement Bureau, Federal Communications Commission, Room 3-B443, 445 12th Street, SW., Washington, DC 20554.

FOR FURTHER INFORMATION CONTACT: James Shook, Special Counsel, Investigations and Hearings Division, Enforcement Bureau at (202) 418-1448; or Nina Shafran, Deputy Chief, Audio Division, Media Bureau at (202) 418-2781.

SUPPLEMENTARY INFORMATION: This is a summary of the Order, DA 05-2000, adopted and released by the Commission's Media Bureau on July 13, 2005. The full text of the Order is available for inspection and copying during normal business hours in the FCC Reference Information Center, Room CY-A257, 445 12th Street, SW., Washington, DC 20554. The complete text may be purchased from the Commission's duplicating contractor, Best Copy and Printing, Inc., Portals II, 445 12th Street, SW., Room CY-B402, Washington, DC 20554, http://www.bcpiweb.com, 1-800-378-3160. Alternative formats (braille, large print, electronic files, audio format) are available to persons with disabilities by sending an e-mail to fcc504@fcc.gov, or by calling the Commission's Consumer & Governmental Affairs Bureau at (202) 418-0530 (voice) or (202) 418-0432 (tty).

Synopsis of the Order

1. PBE petitioned for reconsideration of the HDO issued April 9, 2004 (see DA 04-957, 69 FR 23204, April 28, 2004) which had designated for hearing PBE's renewal application regarding NCE station WVPH(FM), Piscataway, NJ, and a competing application filed by KTM for a new NCE station to serve Plainfield, NJ. In the HDO, the Commission's Media Bureau found that no qualifications issues arose regarding the renewal applicant or new station applicant and that conditional grant of both applications would serve the public interest, convenience and necessity. Pursuant to 47 CFR 73.561(b)(2) as construed by the staff, the matter was designated for an expedited hearing limited solely to the issue of sharing time.

2. In the Order, the Media Bureau dismissed PBE's petition for reconsideration as unauthorized pursuant to 47 CFR 1.106(a)(1).

3. Also in the Order, in light of certain Commission-level decisions discussed therein, the Media Bureau on its own motion vacated its prior conditional grants of PBE's renewal application and KTM's new station application, returned both applications to pending status, and modified the issue previously specified to include the issue of whether granting both PBE's and KTM's applications would serve the public interest, convenience, and necessity better than would operation restricted to PBE. If the ALJ determines that a time sharing arrangement would result in more effective use of the specified channel, he shall also determine the terms and conditions of a time sharing arrangement if the parties do not, either before commencement of the hearing or during the hearing, negotiate a settlement on their own.

4. Pursuant to 47 CFR 1.221(b), the Commission's Consumer and Governmental Affairs Bureau, Reference Information Center, shall send copies of the Order, by certified mail, return receipt requested, to the parties through counsel. PBE and KTM, pursuant to 47 CFR 1.221(c), have already filed their respective written appearances stating an intention to appear on the date fixed for the hearing and present evidence on the issues specified in this Order. PBE and KTM, pursuant to 47 CFR 73.3594, shall give notice of the hearing within the time and in the manner prescribed in 47 CFR 73.3594, and shall advise the Commission of the publication of such notice as required by 47 CFR 73.3594(g).

Federal Communications Commission.
Peter H. Doyle,
Chief, Audio Division, Media Bureau.

[FR Doc. 05-15432 Filed 8-9-05; 8:45 am]

BILLING CODE 6712-01-P